DEPARTMENT OF THE INTERIOR

Bureau of Indian Affairs

Notice of Intent To Prepare an Environmental Impact Statement for the Lower Lake Rancheria Casino-Hotel Project, Oakland, CA

AGENCY: Bureau of Indian Affairs, Interior.

ACTION: Notice.

SUMMARY: This notice advises the public that the Bureau of Indian Affairs (BIA) as lead agency, with the Lower Lake Rancheria Koi Nation as a cooperating agency, intends to gather information necessary for preparing an Environmental Impact Statement (EIS) for a proposed casino and hotel project to be located in Oakland, California. The purpose of the proposed action is to help provide a land base for, and address the socio-economic needs of the Lower Lake Rancheria Koi Nation. This notice also announces a public scoping meeting to identify potential issues, concerns and alternatives to be considered in the EIS.

DATES: Written comments on the scope and implementation of this proposal must arrive by December 29, 2004. The public scoping meeting, to be co-hosted by the BIA and the Lower Lake Rancheria Koi Nation, will be held Wednesday, December 15, 2004, from 6 p.m. to 9 p.m., or until the last public comment is received.

ADDRESSES: You may mail or hand carry written comments to Clay Gregory, Regional Director, Pacific Regional Office, Bureau of Indian Affairs, 2800 Cottage Way, Sacramento, California 95825. The public scoping meeting will be at the East Oakland Senior Center, 9255 Edes Avenue, Oakland, CA 94603.

FOR FURTHER INFORMATION CONTACT: John Rydzik, (916) 978-6042.

SUPPLEMENTARY INFORMATION: The Lower Lake Rancheria Koi Nation is presently a landless federally-recognized tribe, governed by a tribal council elected pursuant to its constitution. The Lower Lake Rancheria Koi Nation is eligible to acquire land to be placed in trust.

The land proposed to be placed in trust, a 35.45-acre paved land parcel, is located within the incorporated City of Oakland in Alameda County, California. The project parcel is located southeast of San Leandro Bay, across the “Airport Channel” from Oakland International Airport, at the corner of Swan Way and Pardee Drive.

The tribe and developers are currently conducting a marketing study to assist in determining the overall size of the proposed facility. At this time, the casino can be expected to be approximately 200,000 square feet in size, which would be constructed during Phase I. Phase II would include the construction and operation of a 300 room hotel on the project site. The casino footprint would consist of a combination of uses, including the main gaming hall, food and beverage facilities, banking and administration facilities, and possibly an event center. The conceptual design of the facility is expected to be completed prior to the public scoping meeting announced in this notice.

Areas of environmental concern to be addressed in the EIS include land use, geology and soils, water resources, agricultural resources, biological resources, cultural resources, mineral resources, paleontological resources, traffic and transportation, noise, air quality, public health/environmental hazards, public services and utilities, hazardous waste and materials, socio-economics, environmental justice, and visual resources/aesthetics. In addition to the proposed action, a reasonable range of alternatives, including a no-action alternative, will be analyzed in the EIS. The range of issues and alternatives may be expanded based on comments received during the scoping process.

Public Comment Availability

Comments, including names and addresses of respondents, will be available for public review at the BIA address shown in the ADDRESSES section, during business hours, 8 a.m. to 4:30 p.m., Monday through Friday, except holidays. Individual respondents may request confidentiality. If you wish us to withhold your name and/or address from public review or from disclosure under the Freedom of Information Act, you must state this prominently at the beginning of your written comment. Such requests will be honored to the extent allowed by the law. We will not, however, consider anonymous comments. All submissions from organizations or businesses, and from individuals identifying themselves as representatives or officials of organizations or businesses, will be made available for public inspection in their entirety.

Authority

This notice is published in accordance with section 1503.1 of the Council of Environmental Quality Regulations (40 CFR parts 1500 through 1508) implementing the procedural requirements of the National Environmental Policy Act of 1969, as amended (42 U.S.C. 4371 et seq.), Department of the Interior Manual (516 DM 1-6), and is in the exercise of authority delegated to the Principal Deputy Assistant Secretary—Indian Affairs by 209 DM 8.l.

Dated: November 16, 2004.
Michael D. Olsen,
Acting Principal Deputy Assistant Secretary—Indian Affairs.

[FR Doc. 04-26193 Filed 11-24-04; 8:45 am]

BILLING CODE 4310-W7-P